DEPARTMENT OF COMMERCE

International Trade Administration

[A-560-833]

Utility Scale Wind Towers From Indonesia: Final Results of Antidumping Duty Administrative Review; 2020-2021

AGENCY: Enforcement and Compliance, International Trade Administration, Department of Commerce.

SUMMARY: The Department of Commerce (Commerce) determines that PT. Kenertec Power System made sales of subject merchandise at less than normal value during the period of review (POR), February 14, 2020, through July 31, 2021.

DATES: Applicable March 10, 2023.

FOR FURTHER INFORMATION CONTACT: Benjamin A. Luberda, AD/CVD Operations, Office II, Enforcement and Compliance, International Trade Administration, U.S. Department of Commerce, 1401 Constitution Avenue NW, Washington, DC 20230; telephone: (202) 482-2185.

SUPPLEMENTARY INFORMATION:

Background

This review covers a single producer and exporter of the subject merchandise, PT. Kenertec Power System (Kenertec). Commerce conducted this administrative review in accordance with section 751 of the Tariff Act of 1930, as amended (the Act). On September 6, 2022, Commerce published the Preliminary Results.¹ On December 16, 2022, we postponed the final results until March 3, 2023.² A summary of the events that occurred since Commerce published the Preliminary Results, as well as a full discussion of the issues raised by interested parties in case briefs for these final results, may be found in the Issues and Decision Memorandum.³ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

¹ See Utility Scale Wind Towers from Indonesia: Preliminary Results of Antidumping Duty Administrative Review; 2020-2021, 87 FR 54478 (September 6, 2022) (Preliminary Results), and accompanying Preliminary Decision Memorandum.

² See Memorandum, “Utility Scale Wind Towers from Indonesia: Extension of Deadline for Final Results of 2020-2021 Antidumping Duty Administrative Review,” dated December 16, 2022.

³ See Memorandum, “Issues and Decision Memorandum for the Final Results of the 2020-2021 Administrative Review of the Antidumping Duty Order on Utility Scale Wind Towers from Indonesia,” dated concurrently with, and hereby adopted by, this notice (Issues and Decision Memorandum).

Scope of the Order ⁴

⁴ See Utility Scale Wind Towers from Canada, Indonesia, the Republic of Korea, and the Socialist Republic of Vietnam: Antidumping Duty Orders, 85 FR 52546 (August 26, 2020) (Order), corrected in Utility Scale Wind Towers from Canada, Indonesia, the Republic of Korea, and the Socialist Republic of Vietnam: Notice of Correction to the Antidumping Duty Orders, 85 FR 56213 (September 11, 2020).

The merchandise subject to the Order is certain wind towers, whether or not tapered, and sections thereof, from Indonesia. Merchandise covered by these orders is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of these orders is dispositive.⁵

⁵ For a complete description of the scope of the Order, see the Issues and Decision Memorandum at 2-3.

Analysis of Comments Received

All issues raised in case and rebuttal briefs by interested parties to this administrative review are addressed in the Issues and Decision Memorandum. For a list of issues raised by parties, see the appendix to this notice.

Changes Since the Preliminary Results

Based on a review of the record and comments received from interested parties regarding the Preliminary Results, we made certain changes to the preliminary weighted-average dumping margin calculated for Kenertec.⁶

⁶ See accompanying Issues and Decision Memorandum.

Final Results of the Review

We have calculated the following weighted-average dumping margin for Kenertec for the period February 14, 2020, through July 31, 2021:

Exporter or producer | Weighted- average dumping margin (percent)
PT. Kenertec Power System | 2.03

Disclosure

We intend to disclose the calculations performed within five days of the date of publication of this notice to the interested parties in this proceeding, in accordance with 19 CFR 351.224(b).

Assessment Rates

Pursuant to section 751(a)(2)(C) of the Act, and 19 CFR 351.212(b), Commerce has determined, and U.S. Customs and Border Protection (CBP) shall assess antidumping duties on all appropriate entries of subject merchandise in accordance with the final results of this review.

Pursuant to 19 CFR 351.212(b)(1), where Kenertec reported the entered value of its U.S. sales, we calculated importer-specific ad valorem duty assessment rates based on the ratio of the total amount of dumping calculated for the examined sales to the total entered value of the sales. Where either the respondent's weighted-average dumping margin is zero or de minimis within the meaning of 19 CFR 351.106(c)(1), or an importer-specific assessment rate is zero or de minimis, we will instruct CBP to liquidate the appropriate entries without regard to antidumping duties. The final results of this review shall be the basis for the assessment of antidumping duties on entries of merchandise covered by the final results of this review and for future deposits of estimated duties, where applicable.⁷

⁷ See section 751(a)(2)(C) of the Act.

Commerce's “automatic assessment” will apply to entries of subject merchandise during the POR produced by Kenertec for which Kenertec did not know that the merchandise it sold to the intermediary (e.g., a reseller, trading company, or exporter) was destined for the United States. In such instances, we will instruct CBP to liquidate such entries at the all-others rate if there is no rate for the intermediate company(ies) involved in the transaction.⁸

⁸ For a full discussion of this practice, see Antidumping and Countervailing Duty Proceedings: Assessment of Antidumping Duties, 68 FR 23954 (May 6, 2003).

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for Kenertec will be will be 2.03 percent; (2) for previously reviewed or investigated companies not participating in this review, the cash deposit rate will continue to be the company-specific rate published for the most recently completed segment of this proceeding in which the company was reviewed or investigated; (3) if the exporter is not a firm covered in this review, a previous review, or the LTFV investigation, but the producer is, then the cash deposit rate will be the rate established for the most recently completed segment for the producer of the subject merchandise; and (4) the cash deposit rate for all other producers or exporters will continue to be 8.53 percent, the all-others rate from the original investigation.⁹

⁹ See Utility Scale Wind Towers from Indonesia: Final Determination of Sales at Less Than Fair Value and Final Negative Determination of Critical Circumstances, 85 FR 40231, 40232 (July 6, 2020).

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i) of the Act, and 19 CFR 351.221(b)(5).

Dated: March 3, 2023.
Lisa W. Wang,
Assistant Secretary for Enforcement and Compliance.

Appendix

List of Topics Discussed in the Issues and Decision Memorandum

I. Summary

II. Background

III. Scope of the Order

IV. Changes to the Margin Calculations

V. Discussion of the Issues

Comment 1: Purchases of Marine Insurance from an Affiliated Party

Comment 2: Constructed Value (CV) Profit and Selling Expenses

Comment 3: Rejection of Certain CV Profit Information

Comment 4: Kenertec's Control Numbers to Account for Different Theoretical Weights for the Same Product

Comment 5: Domestic Brokerage and Handling Adjustment to Kenertec's U.S. Gross Unit Price

Comment 6: Appropriate U.S. Quantity Variable for the Margin Calculations

Comment 7: Treatment of Reimbursement for Certain Movement Expenses

Comment 8: Whether Commerce Should Treat Certain Expenses as Movement Expenses

Comment 9: Basis for Kenertec's U.S. and Home Market Warranty Expense

VI. Recommendation

[FR Doc. 2023-04902 Filed 3-9-23; 8:45 am]

BILLING CODE 3510-DS-P